DEPARTMENT OF ENERGY

Federal Energy Regulatory Commission

[Docket No. CP21-20-000]

Algonquin Gas Transmission, LLC; Notice of Request for Extension of Time

Take notice that on February 18, 2022, Algonquin Gas Transmission, LLC (Algonquin) requested that the Federal Energy Regulatory Commission (Commission) grant an extension of time, until September 27, 2022, to complete the construction of the Stony Point Anomaly MNR Crossing Project (Project), as authorized after the 60-day deadline of Algonquin's prior notice issued by the Commission on December 28, 2020. By that process, Algonquin was initially required to complete and make available for service in one year, by February 27, 2022.

Algonquin states the Project has made substantial progress but experienced extenuating circumstances delaying its completion. Algonquin avers the delays have been a result of (i) complex dewatering conditions at the work site that required enhanced measures, (ii) slower than anticipated tunneling progress due to challenging substrate conditions, and (iii) rainfall and flash flood conditions from Tropical Storm Ida. Algonquin was able to complete the installation of the 26-inch diameter pipeline by December 2021. However, Algonquin was unable to complete the tie-in of these facilities because that would have required an outage of the active pipeline during the winter heating season.

This notice establishes a 15-calendar day intervention and comment period deadline. Any person wishing to comment on Algonquin's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,¹ the Commission will aim to issue an order acting on the request within 45 days.² The Commission will address all arguments relating to whether the applicant has demonstrated there is good cause to grant the extension.³ The Commission will not consider arguments that re-litigate the issuance of the certificate order, including whether the Commission properly found the project to be in the public convenience and necessity and whether the Commission's environmental analysis for the certificate complied with the National Environmental Policy Act.⁴ At the time a pipeline requests an extension of time, orders on certificates of public convenience and necessity are final and the Commission will not re-litigate their issuance.⁵ The OEP Director, or his or her designee, will act on all of those extension requests that are uncontested.

¹ Contested proceedings are those where an intervenor disputes any material issue of the filing. 18 CFR 385.2201(c)(1) (2019).

² Algonquin Gas Transmission, LLC, 170 FERC ¶ 61,144, at P 40 (2020).

³ Id. at P 40.

⁴ Similarly, the Commission will not re-litigate the issuance of an NGA section 3 authorization, including whether a proposed project is not inconsistent with the public interest and whether the Commission's environmental analysis for the permit order complied with NEPA.

⁵ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on March 11, 2022.

Dated: February 24, 2022.
Kimberly D. Bose,
Secretary.

[FR Doc. 2022-04553 Filed 3-3-22; 8:45 am]

BILLING CODE 6717-01-P